NUCLEAR REGULATORY COMMISSION

[NRC-2017-0001]

Sunshine Act Meeting Notice

Date: Weeks of March 27, April 3, 10, 17, 24, May 1, 2017.

Place: Commissioners' Conference Room, 11555 Rockville Pike, Rockville, Maryland.

Status: Public and Closed.

Week of March 27, 2017

There are no meetings scheduled for the week of March 27, 2017.

Week of April 3, 2017—Tentative

Tuesday, April 4, 2017

10:00 a.m. Meeting with the Organization of Agreement States and the Conference of Radiation Control Program Directors (Public Meeting) (Contact: Paul Michalak: 301-415-5804)

This meeting will be webcast live at the Web address— http://www.nrc.gov/.

Thursday, April 6, 2017

10:00 a.m. Meeting with Advisory Committee on Reactor Safeguards (Public Meeting) (Contact: Mark Banks: 301-415-3718)

This meeting will be webcast live at the Web address— http://www.nrc.gov/.

Week of April 10, 2017—Tentative

There are no meetings scheduled for the week of April 10, 2017.

Week of April 17, 2017—Tentative

There are no meetings scheduled for the week of April 17, 2017.

Week of April 24, 2017—Tentative

Wednesday, April 26, 2017

9:00 a.m.—Briefing on the Status of Subsequent License Renewal Preparations (Public Meeting) (Contact: Steven Bloom: 301-415-2431)

This meeting will be webcast live at the Web address— http://www.nrc.gov/.

Thursday, April 27, 2017

10:00 a.m.—Meeting with the Advisory Committee on the Medical Uses of Isotopes (Public Meeting) (Contact: Douglas Bollock: 301-415-6609)

This meeting will be webcast live at the Web address— http://www.nrc.gov/.

Week of May 1, 2017—Tentative

There are no meetings scheduled for the week of May 1, 2017.

* * * * *

The schedule for Commission meetings is subject to change on short notice. For more information or to verify the status of meetings, contact Denise McGovern at 301-415-0681 or via email at Denise.McGovern@nrc.gov.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g., braille, large print), please notify Kimberly Meyer, NRC Disability Program Manager, at 301-287-0739, by videophone at 240-428-3217, or by email at Kimberly.Meyer-Chambers@nrc.gov. Determinations on requests for reasonable accommodation will be made on a case-by-case basis.

* * * * *

Members of the public may request to receive this information electronically. If you would like to be added to the distribution, please contact the Nuclear Regulatory Commission, Office of the Secretary, Washington, DC 20555 (301-415-1969), or email Brenda.Akstulewicz@nrc.gov or Patricia.Jimenez@nrc.gov.

Dated: March 23, 2017.
Denise L. McGovern,
Policy Coordinator, Office of the Secretary.

[FR Doc. 2017-06161 Filed 3-24-17; 11:15 am]

BILLING CODE 7590-01-P